DEPARTMENT OF COMMERCE

National Oceanic and Atmospheric Administration

50 CFR Part 648

[Docket No. 180209147-8509-02]

RIN 0648-XG674

Fisheries of the Northeastern United States; Small-Mesh Multispecies Fishery; Inseason Adjustment to the Southern Red Hake Possession Limit

AGENCY: National Marine Fisheries Service (NMFS), National Oceanic and Atmospheric Administration (NOAA), Commerce.

ACTION: Temporary rule; inseason adjustment.

SUMMARY: NMFS announces that the commercial per-trip possession limit for southern red hake has been reduced for the remainder of the 2018 fishing year. Regulations governing the small-mesh multispecies fishery require this action to prevent the southern red hake total allowable landing limit from being exceeded. This announcement also informs the public of the reduced southern red hake possession limit.

DATES: Effective December 26, 2018, through April 30, 2019.

FOR FURTHER INFORMATION CONTACT: Cynthia Ferrio, Fishery Management Specialist, (978) 281-9180.

SUPPLEMENTARY INFORMATION: Regulations governing the red hake fishery are found at 50 CFR part 648. The small-mesh multispecies fishery is managed primarily through a series of exemptions from the Northeast Multispecies Fisheries Management Plan. The regulations describing the process to adjust inseason commercial possession limits of southern red hake are described in § 648.86(d)(4) and § 648.90(b)(5). These regulations require the NMFS Regional Administrator, Greater Atlantic Region, to reduce the southern red hake per-trip possession limit from 5,000 lb (2,268 kg) to the incidental limit of 400 lb (181 kg) when landings have been projected to reach or exceed 90 percent of the total allowable landings (TAL), unless such a reduction is expected to prevent the TAL from being reached. The final rule implementing the small-mesh multispecies specifications for 2018-2020 (83 FR 27713; June 14, 2018) set the southern red hake inseason adjustment threshold for the 2018 fishing year as 605,169 lb (274,500 kg); 90 percent of the southern red hake TAL for the year.

Based on commercial landings data reported through December 8, 2018, the southern red hake fishery is projected to reach 90 percent of the TAL on or around December 26, 2018. NMFS is required to reduce the commercial southern red hake possession limit when 90 percent of the TAL is projected to be reached, to prevent the TAL from being exceeded. We do not anticipate that this reduced possession limit will prevent the TAL from being achieved. Therefore, effective December 26, 2018, no person may possess on board or land more than 400 lb (181 kg) of southern red hake per trip for the remainder of the fishing year (i.e., through April 30, 2019).

Classification

This action is required by 50 CFR part 648 and is exempt from review under Executive Order 12866.

The Assistant Administrator for Fisheries, NOAA, finds good cause under 5 U.S.C. 553(b)(B) to waive prior notice and the opportunity for public comment because it would be contrary to the public interest. This action reduces the per-trip possession limit for southern red hake to the incidental limit of 400 lb (181 kg) until April 30, 2019, under current small-mesh multispecies fishery regulations. The regulations at § 648.86(d) require such action to ensure that commercial small-mesh multispecies vessels do not exceed the TAL set for the southern red hake stock. If implementation of this reduction was delayed to solicit prior public comment, the southern red hake TAL for this fishing year may be exceeded, thereby undermining the conservation objectives of the Small-Mesh Multispecies Fishery Management Plan. Therefore, pursuant to 5 U.S.C. 553(d)(3), the Assistant Administrator further finds good cause to waive the 30-day delayed effectiveness period for the reason stated above.

Authority: 16 U.S.C. 1801 et seq.

Dated: December 18, 2018.
Karen H. Abrams,
Acting Director, Office of Sustainable Fisheries, National Marine Fisheries Service.

[FR Doc. 2018-27689 Filed 12-18-18; 4:15 pm]

BILLING CODE 3510-22-P